DEPARTMENT OF HEALTH AND HUMAN SERVICES

Indian Health Service

National Native American Emergency Medical Services Association

AGENCY: Indian Health Service, IHS.

ACTION: Notice of Single Source Cooperative Agreement with the National Native American Emergency Medical Services Association.

SUMMARY: The Indian Health Service (IHS) announces the award of a cooperative agreement that will be funded on a competitive continuing basis to the National Native American Emergency Medical Services Association (NNAEMSA) for a demonstration project to improve emergency medical services for Native American people by improving communications between the IHS and the Native American Emergency Medical Services (EMS) providers; by improving communications and information among other federal agencies, professional organizations and Native American EMS providers; and by supporting an Annual Educational Conference.

Project Period: The cooperative agreement is for a five-year project period effective on or about September 15, 2005 to September 14, 2010.

Amount of Award(s): Total funding for the project is $450,000. Funding in the amount of $90,000.00 is available in FY 2005. Continuation awards within an approved project period will be made on the basis of satisfactory progress as evidenced by required reports and the availability of funds.

Authority: The award is issued under the authority of the Public Health Service Act, Section 301(a), and is included under the Catalog of Federal Domestic Assistance number 93.933.

The specific objectives of the project are:

1. The Association will publish, at least three times yearly, a newsletter for members. The newsletter will be available in both hard copy and electronically.

2. The Association will present an Annual Educational Conference which supports training and continuing education for Native American EMS providers such as EMT-Basics, EMT-Intermediates, EMT-Paramedics, physicians, nurses, EMS Medical Directors, ambulance drivers, and First Responders who will receive Continuing Education Units/Continuing Medical Education credits.

3. The Association will act (1) to disseminate appropriate and accurate information and education regarding EMS and EMS providers in Indian Country to State EMS and State Administering Agencies, national professional organizations and federal agencies and to relay information and developments back to its membership and (2) to establish links with other national Indian organizations, professional EMS-related groups and federal agencies.

4. The Association will actively participate with Department of Homeland Security, Department of Health and Human Services and Mountain Plains Health Consortium to inform and educate Native American EMS provider regarding Presidential directives concerning adoption and implementation of the National Incident Management System (NIMS) and Incident Command System (ICS) and other Emergency Preparedness requirements for First Responders.

Reporting Requirements

1. Progress Report—Program progress reports are required semi-annually. These reports will include a brief comparison of actual accomplishments to the goals established for the period, reasons for slippage (if applicable), and other pertinent information as required. A final report must be submitted within 90 days of expiration of the budget/project period.

2. Financial Status Report—Semi-annual financial status reports must be submitted within 30 days of the end of the half year. Final financial status reports are due within 90 days of expiration of the budget/project period. Standard Form 269 (long form) will be used for financial reporting.

Justification for Single Source

Previously, this project was awarded on a non-competitive continuing basis. With its national focus and years of experience and knowledge which collectively it represents, NNAEMSA fill a niche that no other organization or local Native American EMS association can provide. NNAEMSA is the only nationwide organization that specifically represents approximately 80 individual Native American EMS programs. These EMS programs provide care to over half-million Native American people who live on or near Indian reservations or who live in non-reservation areas with significant Native American populations. The population served by these programs is the same as IHS's user population. NNAEMSA is uniquely qualified to provide the services listed herein, having the requisite knowledge and experience to do so. NNAEMSA has an established record of achievements over the past five years in providing continuing medical education programs of high quality to pre-hospital providers and valuable tribal EMS expertise to IHS in consultation.

Use of Cooperative Agreement

A cooperative agreement shall be awarded because of anticipated substantial programmatic involvements by IHS staff in the project. The substantial programmatic involvement is as follows:

1. IHS staff will approve articles to be included in the newsletters and may, as requested by the Association, provide articles.

2. Working with the Association, IHS staff will be involved in the development of the Annual Educational Conference to include topics of concern to the Agency and will be included in presentations as requested by IHS Program Staff or NNAEMSA.

3. IHS Program staff will have approval over the hiring of key personnel as defined by regulation or provision in the cooperative agreement.

4. IHS Program staff will provide technical assistance to the NNAEMSA Board and will attend in person at least one NNAEMSA Board meeting.

5. IHS Program staff will provide technical assistance for the NNAEMSA Board member training and will attend in person any NNAEMSA Board member training sessions scheduled and as travel budget allows.

FOR FURTHER INFORMATION CONTACT: For program information, contact Cathy Stueckemann, Public Health Advisor, Division of Nursing, Office of Clinical and Preventive Services, IHS Reyes Building, 801 Thompson Avenue, Rockville, Maryland, 20852, telephone (301) 443-2500.

For grants management information, contact Denise Clark, Grants Management Specialist, Division of Grants Operations, Reyes Building, 801 Thompson Avenue, Rockville, Maryland, 20852, telephone (301) 443-5204.

Dated: September 1, 2005.
Robert G. McSwain,
Deputy Director, Indian Health Service.

[FR Doc. 05-17941 Filed 9-8-05; 8:45 am]

BILLING CODE 4165-16-M